DEPARTMENT OF EDUCATION

National Advisory Committee on Institutional Quality and Integrity; Notice of Meeting

AGENCY: National Advisory Committee on Institutional Quality and Integrity, Office of Postsecondary Education, U.S. Department of Education.

ACTION: Notice. Change to meeting date.

SUMMARY: The Department of Education announced in the Federal Register on September 17, 2025, that it would host a meeting of the National Advisory Committee on Institutional Quality and Integrity (NACIQI or Committee) on October 21, 2025. In this notice, the Department announces a change in the meeting date to December 16, 2025, because of the current lapse in appropriations. This notice sets forth the agenda, time, and instructions to access or participate in the NACIQI meeting on December 16, 2025, and provides information to members of the public regarding the meeting and how to make a request to submit written or oral comments. Committee members will meet in person. Agency representatives have the option to meet in person or virtually, and public attendees can participate virtually. Like the September 17, 2025, announcement, this meeting notice is required under the Federal Advisory Committee Act and the Higher Education Act (HEA).

DATES: The NACIQI meeting will be held on December 16, 2025, from 9:00 a.m. to 5:00 p.m. Eastern Time. Public attendees can register to participate virtually at the following link: https://cvent.me/GOMz1Q.

ADDRESSES: U.S. Department of Education, 400 Maryland Avenue SW, Barnard Auditorium, Washington, DC 20202. Only NACIQI members, accrediting agency representatives, and Department of Education staff will participate in the meeting at this address. Public attendees can register to participate virtually at the following link: https://cvent.me/GOMz1Q.

FOR FURTHER INFORMATION CONTACT: George Alan Smith, Executive Director/Designated Federal Official (DFO), NACIQI, U.S. Department of Education, 400 Maryland Avenue SW, Washington, DC 20202, telephone: (202) 453-7757, or email: George.Alan.Smith@ed.gov.

SUPPLEMENTARY INFORMATION:

Statutory Authority and Function: NACIQI is established under Section 114 of the HEA (20 U.S.C. 1011c). NACIQI advises the Secretary of Education with respect to:

• The establishment and enforcement of the standards of accrediting agencies or associations under subpart 2, part H, Title IV of the HEA, as amended;

• The recognition of specific accrediting agencies or associations;

• The preparation and publication of the list of nationally recognized accrediting agencies and associations;

• The eligibility and certification process for institutions of higher education under Title IV of the HEA, together with recommendations for improvement in such process;

• The relationship between (1) accreditation of institutions of higher education and the certification and eligibility of such institutions, and (2) State licensing responsibilities with respect to such institutions; and

• Any other advisory function relating to accreditation and institutional eligibility that the Secretary of Education may prescribe by regulation.

Meeting Agenda

The purpose of the meeting is to elect a committee chairperson, to share the Administration's higher education policy priorities, and to conduct a review of compliance reports submitted by five accrediting agencies.

Election of a Committee Chairperson

The Designated Federal Official (DFO) will facilitate the election of a chairperson.

Administration Policy Update

The Under Secretary will share updates on the Administration's higher education policy priorities.

Compliance Reports

1. Accreditation Commission for Midwifery Education. Scope of Recognition: The accreditation and pre-accreditation of basic certificate, basic graduate nurse-midwifery, direct entry midwifery, and pre-certification nurse-midwifery education programs, including those programs that offer distance education. Geographic area of accrediting activities: The United States. The compliance report includes findings of noncompliance with certain criteria in 34 Code of Federal Regulations (CFR) Part 602 identified in the May 31, 2023, letter from the Senior Department Official (SDO) following the February 28, 2023, NACIQI meeting. The SDO letter is available under “NACIQI Meeting Date 2/28/2023”, at https://surveys.ope.ed.gov/erecognition/#/public-documents.

2. American Physical Therapy Association, Commission on Accreditation in Physical Therapy. Scope of Recognition: The accreditation and pre-accreditation (“Candidate for Accreditation”) in the United States of physical therapist education programs leading to the first professional degree at the master's or doctoral level and physical therapist assistant education programs at the associate degree level and for its accreditation of such programs offered via distance education. Geographic area of accrediting activities: The United States. The compliance report includes findings of noncompliance with certain criteria in 34 CFR part 602 at https://www.ecfr.gov/current/title-34/subtitle-B/chapter-VI/part-602 identified in the May 31, 2023, letter from the SDO following the February 28, 2023, NACIQI meeting. The SDO letter is available under “NACIQI Meeting Date 2/28/2023”, at https://surveys.ope.ed.gov/erecognition/#/public-documents.

3. Middle States Commission on Higher Education. Scope of Recognition: The accreditation and pre-accreditation (“Candidacy status”) of institutions of higher education including distance, correspondence education programs and direct assessment programs offered at those institutions. Recognition extends to the Executive Committee to act on behalf of the Commission as necessary on cases of initial, reaffirmed, and continued candidacy or initial, reaffirmed and continued accreditation. Geographic Area of Accrediting Activities: The United States. The compliance report includes findings of noncompliance with certain criteria in 34 CFR part 602 at https://www.ecfr.gov/current/title-34/subtitle-B/chapter-VI/part-602 identified in the May 31, 2023, letter from the SDO following the February 28, 2023, NACIQI meeting. The SDO letter is available under “NACIQI Meeting Date 2/28/2023”, at https://surveys.ope.ed.gov/erecognition/#/public-documents.

4. New England Commission of Higher Education. Scope of Recognition: The accreditation and pre-accreditation (“Candidacy status”) of institutions of higher education including the accreditation of programs offered via distance education and direct assessment within those institutions. Jointly with the Commission, this recognition extends to its Executive Committee and also to the Appeals Body for decisions related to the appeal of denial or withdrawal of candidacy; probation; and denial or withdrawal of accreditation. Geographic Area of Accrediting Activities: The United States. The compliance report includes findings of noncompliance with certain criteria in 34 CFR part 602 at https://www.ecfr.gov/current/title-34/subtitle-B/chapter-VI/part-602identified in the May 31, 2023, letter from the SDO following the February 28, 2023, NACIQI meeting. The SDO letter is available under “NACIQI Meeting Date 2/28/2023”, at https://surveys.ope.ed.gov/erecognition/#/public-documents.

5. Western Association of Schools and Colleges. Scope of Recognition: The accreditation and pre-accreditation (“Candidate for Accreditation”) of institutions of higher education that offer the baccalaureate degree or above, including distance education programs offered at those institutions. Geographic area of accrediting activities: The United States. The compliance report includes findings of noncompliance with certain criteria in 34 CFR part 602 at https://www.ecfr.gov/current/title-34/subtitle-B/chapter-VI/part-602identified in the May 31, 2023, letter from the SDO following the February 28, 2023, NACIQI meeting. The SDO letter is available under “NACIQI Meeting Date 2/28/2023”, at https://surveys.ope.ed.gov/erecognition/#/public-documents.

To ensure sufficient time for all agency reviews, including NACIQI questions and discussion, the Department requests that the agencies limit their opening statements to 10 minutes (total for one or more statements), and that the agencies avoid extended discussions about agency representatives and their backgrounds. Following the brief opening statement, the agency's presentation should focus on the regulatory criteria, and in particular, responses to areas where the staff has recommended a finding of noncompliance or substantial compliance, or where other concerns have been raised that the agency would like to address. However, the agency should expect that questions from NACIQI members may focus on other areas.

Instructions for Accessing the Meeting Registration: You may register for the meeting on your computer using the link below. After you register, you will receive a confirmation email containing personalized participation links for the meeting no later than 8:30 a.m. Eastern Standard Time on December 16, 2025.

Registration Link: https://cvent.me/GOMz1Q.

Public Comment

Submission of requests to make an oral comment regarding a specific accrediting agency under review, or to make an oral comment or written statement regarding other issues within the scope of NACIQI's authority:

Opportunity to submit a written statement regarding a specific accrediting agency under review was solicited by a previous Federal Register notice published on April 24, 2024 (89 FR 31171; Document Number 2024-08770). The period for submission of such statements is now closed. Additional written statements regarding a specific accrediting agency or state approval agency under review will not be accepted at this time. However, members of the public may submit written statements regarding other issues within the scope of NACIQI's authority, as outlined under Section 114 of the HEA (20 U.S.C. 1011c).

Members of the public may make oral comments regarding a specific accrediting agency under review and/or other issues within the scope of NACIQI's authority. Oral comments may not exceed three minutes. Oral comments about an agency's recognition when a compliance report has been required by the SDO or the Secretary must relate to the criteria for recognition cited in the SDO's letter that requested the report, or in the Secretary's appeal decision, if any. Oral comments about an agency seeking expansion of scope must be directed to the agency's ability to serve as a recognized accrediting agency with respect to the kinds of institutions or programs requested to be added. Oral comments about the renewal of an agency's recognition must relate to its compliance with the criteria for the Recognition of Accrediting Agencies, which are available at https://www.ecfr.gov/current/title-34/subtitle-B/chapter-VI/part-602?toc=1.

Instructions on Requesting to Make Public Comment: To request to make oral comments of three minutes or less or to submit a written statement to NACIQI concerning its work outside of a specific accrediting agency under review during the meeting on December 16, 2025, please follow the instructions below.

Submit an email to the ThirdPartyComments@ed.gov mailbox. Please do not send material directly to NACIQI members. To be considered for the current cycle review, written statements and requests to make oral comment must be received by December 8, 2025, and include the subject line “Oral Comment Request: (agency name),” “Oral Comment Request: (subject)” or “Written Statement: (subject).” The email must include the name(s), title, organization/affiliation, mailing address, email address, and telephone number, of the person(s) submitting a written statement or requesting to speak. All individuals submitting an advance request in accordance with this notice will be afforded an opportunity to speak.

Access to Records of the Meeting: The Department will post the official report of the meeting on the NACIQI website https://sites.ed.gov/naciqi/archive-of-meetings/ within 90 days after the meeting. In addition, pursuant to 5 U.S.C. 1009, the public may request to inspect records of the meeting at 400 Maryland Avenue SW, Washington, DC, by emailing aslrecordsmanager@ed.gov or by calling (202) 453-7415 to schedule an appointment. The SDO's (as defined in 34 CFR 602.3 at https://www.ecfr.gov/current/title-34/subtitle-B/chapter-VI/part-602/subpart-A/section-602.3) decisions, pursuant to 34 CFR 602.36 https://www.ecfr.gov/current/title-34/subtitle-B/chapter-VI/part-602/subpart-C/subject-group-ECFR21f0283b12d15ca/section-602.36, associated with all NACIQI meetings can be found at the following website: https://surveys.ope.ed.gov/erecognition/#/public-documents.

Reasonable Accommodations: The dial-in information and weblink access to the meeting are accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at: www.gpo.gov/fdsys. At this site you can view this document, as well as all other documents of the Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 114 of the HEA of 1964, as amended (20 U.S.C. 1011c).

Christopher McCaghren,
Acting Assistant Secretary for Postsecondary Education.

[FR Doc. 2025-19619 Filed 10-20-25; 8:45 am]

BILLING CODE 4000-01-P